ENVIRONMENTAL PROTECTION AGENCY

40 CFR Part 372

[OEI-100006; FRL 6722-7]

RIN 2025-AA00

Report on the Corrosion of Certain Alloys; Community Right-to-Know Toxic Chemical Release Reporting

AGENCY: Environmental Protection Agency (EPA).

ACTION: Notice of availability; request for comments.

SUMMARY: EPA is announcing the availability of a document titled “Report on the Corrosion of Certain Alloys” (“Alloys Report”). The Alloy Report contains information on the corrosion of stainless steel, brass, and bronze alloys and the availability of chromium, nickel, and copper from these alloys. Chromium, nickel, and copper contained in stainless steel, brass, and bronze alloys are listed toxic chemicals under section 313 of the Emergency Planning and Community Right-to-Know Act of 1986 (EPCRA), and therefore may be reportable pursuant to EPCRA section 313 and section 6607 of the Pollution Prevention Act of 1990 (PPA). EPA is requesting comments on the technical contents of this document and its conclusions. Depending upon the comments received, EPA may propose to delist chromium, nickel, and copper when contained in some or all physical forms of stainless steel, brass and bronze alloys from the EPCRA section 313 list of toxic chemicals.

DATES: Written comments, identified by the docket control number OEI-100006, must be received by EPA on or before December 20, 2001.

ADDRESSES: Comments may be submitted by mail, electronically, or in person. Please follow the detailed instructions for each method as provided in Unit I. of the SUPPLEMENTARY INFORMATION section of this document.

FOR FURTHER INFORMATION CONTACT: Daniel R. Bushman, Petitions Coordinator, (202) 260-3882, e-mail: bushman.daniel@epa.gov, for specific information on this document, or for more information on EPCRA section 313, the Emergency Planning and Community Right-to-Know Hotline, Environmental Protection Agency, Mail Code 5101, 1200 Pennsylvania Ave., NW., Washington, DC 20460, Toll free: 1-800-535-0202, in Virginia and Alaska: (703) 412-9877 or Toll free TDD: 1-800-553-7672. Information concerning this notice is also available on EPA's Web site at http://www.epa.gov/tri.

SUPPLEMENTARY INFORMATION:

I. General Information

A. Does This Notice Apply to Me?

You may be interested in this notice if you manufacture, process, or otherwise use metal alloys. Potentially interested categories and entities may include, but are not limited to:

Category | Examples of Potentially Interested Entities
Industry | SIC major group codes 10 (except 1011, 1081, and 1094), 12 (except 1241), or 20 through 39; industry codes 4911 (limited to facilities that combust coal and/or oil for the purpose of generating power for distribution in commerce); or 4931 (limited to facilities that combust coal and/or oil for the purpose of generating power for distribution in commerce); or 4939 (limited to facilities that combust coal and/or oil for the purpose of generating power for distribution in commerce); or 4953 (limited to facilities regulated under the Resource Conservation and Recovery Act, subtitle C, 42 U.S.C. section 6921 et seq.), or 5169, or 5171, or 7389 (limited to facilities primarily engaged in solvent recovery services on a contract or fee basis)
Federal Government | Federal facilities

This table is not intended to be exhaustive, but rather provides a guide for readers regarding entities likely to be interested in this notice. Other types of entities not listed in the table could also be interested. To determine whether your facility may be interested in this notice, you should carefully examine the applicability criteria in part 372, subpart B of Title 40 of the Code of Federal Regulations. If you have questions regarding the applicability of this notice to a particular entity, consult the person listed in the preceding FOR FURTHER INFORMATION CONTACT section.

B. How Can I Get Additional Information or Copies of This Document, the Alloys Report, or Other Support Documents?

1. Electronically. You may obtain electronic copies of this document from the EPA internet Home Page at http://www.epa.gov/. On the Home Page select “Laws and Regulations” and then look up the entry for this document under the “Federal Register—Environmental Documents.” You can also go directly to the “Federal Register” listings at http://www.epa.gov/fedrgstr/. The Alloys Report is available for downloading at http://www.epa.gov/tri/.

2. In person. The Agency has established an official record for this action under docket control number OEI-100006. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. Be sure to identify the appropriate docket control number (i.e., “OEI-100006”) in your correspondence.

1. By mail. Submit written comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is: (202) 260-7093.

3. Electronically. Submit your comments electronically by e-mail to: “oppt.ncic@epa.gov.” Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number OEI-100006. Electronic comments on this document may also be filed online at many Federal Depository Libraries.

D. How Should I Handle CBI Information That I Want to Submit to the Agency?

You may claim information that you submit in response to this document as CBI by marking any part or all of that information as CBI. Information so marked will not be disclosed except in accordance with procedures set forth in 40 CFR part 2. A copy of the comment that does not contain CBI must be submitted for inclusion in the public record. Information not marked confidential will be included in the public docket by EPA without prior notice. If you have any questions about CBI or the procedures for claiming CBI, please consult with the technical person identified in the FOR FURTHER INFORMATION CONTACT section.

II. Background Information

A. What Is the Purpose of This Notice?

The purpose of this notice is to make available for comment a document titled “Report on the Corrosion of Certain Alloys.” The Alloys Report contains information on the corrosion of stainless steel, brass, and bronze alloys. The report discusses the major types of environmental conditions and how these environmental conditions can affect the corrosion resistance of the stainless steel, brass, and bronze alloys. The Alloys Report focuses on the availability of chromium, nickel, and copper from stainless steel, brass, and bronze alloys as a result of corrosion under environmental conditions. EPA requests comments on the technical contents and conclusions of the Alloys Report. Depending upon the comments received, EPA may propose to delist, pursuant to EPCRA section 313(d)(2), chromium, nickel, and copper when contained in some or all physical forms of stainless steel, brass, and bronze alloys from the EPCRA section 313 list of toxic chemicals.

B. Why Has EPA Prepared the Alloys Report?

Because alloys are solid-solid mixtures, chromium, nickel, copper, and other EPCRA section 313 listed toxic metals contained in alloys are subject to EPCRA section 313 and PPA section 6607 reporting. As with all mixtures in the EPCRA section 313 program, the weight percent of any listed toxic chemical in an alloy must be factored into threshold determinations and release and other waste management calculations.

In 1992 EPA received three petitions requesting the delisting of chromium, nickel, and copper when found in stainless steel, brass, and bronze from the EPCRA section 313 list of toxic chemicals. The petitions were from Russell Harrington Cutlery, Inc. (June 12, 1992), Bath Iron Works Corporation (September 25, 1992), and Stillwater Fasteners Inc. (October 1, 1992). EPA denied these petitions on June 29, 1993 (58 FR 34738) based on the Agency's determinations that: 1) Chromium, copper, and nickel meet the listing criteria of EPCRA section 313(d)(2), and 2) corrosion of certain forms (e.g., dusts, grindings, and shavings) of stainless steel, brass, and bronze alloys can be reasonably be anticipated to occur under some processing, use, or disposal situations yielding available forms of these constituent metals. EPA concluded that the petitioners failed to provide, nor did EPA possess, any data to support the petitioners' contention that manufacturing, processing, use, or other activities involving the metal alloys subject to the petitions would not lead to availability of these metals.

In the 1993 denial notice EPA requested further comments on the reporting of chromium, nickel, and copper in stainless steel, brass, and bronze alloys. Recognizing that certain forms of alloys which have high surface to volume ratios might corrode more rapidly, EPA specifically requested comment on whether the reporting of chromium, copper, and nickel in forms of the alloys with low surface to volume ratios (e.g., blocks) should be exempted from the reporting requirements of EPCRA section 313 (58 FR 34741). EPA stated that depending upon the nature of the information submitted, EPA would consider proposing a qualification to the EPCRA section 313 listing to exempt from reporting those forms of an alloy for which data can be provided that indicate corrosion will not occur. In the comments received EPA did not receive sufficient information to propose to delist chromium, nickel, or copper pursuant to EPCRA section 313(d)(2) when contained in an alloy, regardless of the form of the alloy (i.e., add a qualifer). In addition, on October 15, 1993, several months after the petition denial was published in the Federal Register, a letter was received by the EPA, from Independent Nail Company requesting that the Agency delist chromium and nickel when found in Type 304/316 stainless steel. EPA continued to review this issue, and subsequently developed the Alloys Report which is being made available today for public comment.

EPA's evaluation of whether chromium, nickel, and copper in an alloy may be delisted pursuant to EPCRA section 313(d)(2) entails an evaluation of all chemical and biological processes that may lead to the metal's availability from the alloy, as well as on the toxicity exhibited by the intact species. In this instance, the effects induced by these metals meet the toxicity criteria under section 313(d)(2). In order to delist these metals when contained in an alloy, or specific physical forms of an alloy, competent scientific evidence that demonstrates that the alloy does not corrode, or specific forms of the alloy do not corrode, and thereby generate the toxic metal at a level that can be expected to induce toxicity is required. Depending on the comments received on this report, EPA will determine whether or not there are sufficient data to propose to delist, pursuant to EPA's authority in EPCRA section 313(d)(2), chromium, copper, or nickel when contained in some or all physical forms of stainless steel, brass, and bronze alloys (i.e., “add” a qualifier to the listing of these toxic chemicals).

List of Subjects in 40 CFR Part 372

Environmental protection, Community right-to-know, Reporting and recordkeeping requirements, and Toxic chemicals.

Dated: August 2, 2001.
Elaine G. Stanley,
Director, Office of Information Analysis and Access.

[FR Doc. 01-21198 Filed 8-21-01; 8:45 am]

BILLING CODE 6560-50-F